INTERNATIONAL TRADE COMMISSION

[Investigation No. 332-574]

Renewable Electricity: Potential Economic Effects of Increased Commitments in Massachusetts; Notice of a New Date for the Public Hearing

AGENCY: United States International Trade Commission.

ACTION: Notice of a new date for the public hearing.

SUMMARY: The Commission has changed the date of its public hearing for Investigation No. 332-574: Renewable Electricity: Potential Economic Effects of Increased Commitments in Massachusetts from May 7, 2020 to July 29, 2020 due to COVID-19.

DATES:

July 1, 2020: Deadline for filing requests to appear at the public hearing.

July 15, 2020: Deadline for filing pre-hearing briefs and statements.

July 29, 2020: Public hearing.

August 7, 2020: Deadline for filing post-hearing briefs and statements.

August 14, 2020: Deadline for filing all other written submissions.

January 25, 2021: Transmittal of Commission report to the Committee.

ADDRESSES: All Commission offices, including the Commission's hearing rooms, are located in the United States International Trade Commission Building, 500 E Street SW, Washington, DC. All written submissions should be addressed to the Secretary, United States International Trade Commission, 500 E Street SW, Washington, DC 20436. The public record for this investigation may be viewed on the Commission's electronic docket (EDIS) at https://www.usitc.gov.

FOR FURTHER INFORMATION CONTACT: Project Leader Diana Friedman (202-205-3433 or diana.friedman@usitc.gov) or Deputy Project Leader Patricia Mueller (202-205-2599 or patricia.mueller@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its internet server (https://www.usitc.gov). Persons with mobility impairments who will need special assistance in gaining access to the Commission should contact the Office of the Secretary at 202-205-2000.

SUPPLEMENTARY INFORMATION: The Commission published notice of institution of the investigation in the Federal Register on February 19, 2020 (85 FR 9479, February 19, 2020). In that notice, the Commission announced it would hold a public hearing on May 7, 2020, and it also set dates by which requests to appear at the hearing, briefs, and other written submissions should be filed. However, due to COVID-19, the Commission postponed the hearing to a date to be determined (85 FR 21460, April 17, 2020). The Commission has rescheduled the public hearing as well as deadlines for requests to appear at the hearing, briefs, and other written submissions to the following dates. Please note the Secretary's Office will accept only electronic filings at this time. Filings must be made through the Commission's Electronic Document Information System (EDIS, https://edis.usitc.gov). No in-person paper-based filings or paper copies of any electronic filings will be accepted until further notice. The scope of the investigation remains the same as published in the Federal Register on February 19, 2020.

Public Hearing: A public hearing in connection with this investigation will be held beginning at 9:30 a.m. on July 29, 2020. Information about the place and form of the hearing, including about how to participate in or view the hearing, will be posted on the Commission's website at (https://usitc.gov/research_and_analysis/what_we_are_working_on.htm). Once on that web page, scroll down to the entry for investigation No. 332-574, Renewable Electricity: Potential Economic Effects of Increased Commitments in Massachusetts, and click on the link to “hearing instructions.” Interested parties should check the Commission's website periodically for updates.

Requests to appear at the public hearing should be filed with the Secretary no later than 5:15 p.m., July 1, 2020 in accordance with the requirements in the “Submissions” section below. All pre-hearing briefs and statements should be filed no later than 5:15 p.m., July 15, 2020; and all post-hearing briefs and statements should be filed no later than 5:15 p.m., August 7, 2020. In the event that, as of the close of business on July 14, 2020, no witnesses are scheduled to appear at the hearing, the hearing will be canceled. Any person interested in attending the hearing as an observer or nonparticipant should contact the Office of the Secretary at 202-205-2000 after July 15, 2020, for information concerning whether the hearing will be held.

Written Submissions: In lieu of or in addition to participating in the hearing, interested parties are invited to file written submissions concerning this investigation. All written submissions should be addressed to the Secretary, and should be received not later than 5:15 p.m., August 14, 2020. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Confidential Business Information. Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committee, the Commission will not include any confidential business information in the report that it sends to the Committee or makes available to the public. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a manner that would reveal the operations of the firm supplying the information.

Summaries of Written Submissions: The Commission intends to publish summaries of the positions of interested persons in an appendix to the report. Persons wishing to have a summary of their position included in the report should include a summary with their written submission. The summary may not exceed 500 words, should be in a format that can be easily converted to MS Word, and should not include any confidential business information. The summary will be published as provided if it meets these requirements and is germane to the subject matter of the investigation. The Commission will identify the name of the organization furnishing the summary and will include a link to the Commission's Electronic Document Information System (EDIS) where the full written submission can be found.

By order of the Commission.
Issued: June 4, 2020.
Lisa Barton,
Secretary to the Commission.

[FR Doc. 2020-12439 Filed 6-8-20; 8:45 am]

BILLING CODE 7020-02-P